DEPARTMENT OF HOMELAND SECURITY

Coast Guard

33 CFR Part 165

[Docket No. USCG-2019-0356]

Safety Zones; Annual Fireworks Displays Within the Sector Columbia River Captain of the Port Zone

AGENCY: Coast Guard, DHS.

ACTION: Notice of enforcement of regulation.

SUMMARY: The Coast Guard will enforce safety zone regulations at 29 locations in the Sector Columbia River Captain of the Port zone during the dates and times noted under SUPPLEMENTARY INFORMATION. This action is necessary to prevent injury and to protect life and property of the maritime public from the hazards associated with annual fireworks displays. These regulations prohibit persons and vessels from entry into, transit through, mooring, or anchoring within the regulated area unless authorized by the Captain of the Port, Sector Columbia River or their designated representative.

DATES: The regulations in 33 CFR 165.1315 will be enforced for the 29 safety zones identified in the SUPPLEMENTARY INFORMATION section below for the dates and times specified in this document.

FOR FURTHER INFORMATION CONTACT: If you have questions about this notice of enforcement, call or email LCDR Dixon Whitley, Waterways Management Division, Marine Safety Unit Portland, Coast Guard; telephone 503-240-9319, email msupdxwwm@uscg.mil.

SUPPLEMENTARY INFORMATION: The Coast Guard will enforce safety zones regulations found in 33 CFR 165.1315 for the following 29 events listed below. These safety zones will be activated 1 hour prior to and conclude 1 hour following the duration of the event as listed in the following Table:

Table—Dates and Durations in 2019 for Events Listed in 33 CFR 165.1315 and the Location of These Events Within the Sector Columbia River Captain of the Port Zone
Event name (typically) | Event location | Date and duration of event | Latitude | Longitude
Splash Aberdeen Waterfront Festival | Aberdeen, WA | July 4, 2019 10 p.m. to 10:30 p.m | 46°58′40″ N | 123°47′45″ W
Astoria Warrenton 4th of July Fireworks | Astoria, OR | July 4, 2019 10 p.m. to 10:30 p.m | 46°11′34″ N | 123°49′28″ W
Bandon 4th of July | Bandon, OR | July 4, 2019 10 p.m. to 10:30 p.m | 43°07′29″ N | 124°25′05″ W
Brookings, OR July 4th Fireworks | Brookings, OR | July 4, 2019 9:30 p.m. to 10 p.m | 42°02′39″ N | 124°16′14″ W
Port of Cascade Locks 4th of July Fireworks | Cascade Locks, OR | July 4, 2019 10 p.m. to 10:30 p.m | 45°40′15″ N | 121°53′43″ W
Bald Eagle Days | Cathlamet, WA | July 20, 2019 10 p.m. to 10:30 p.m | 46°12′14″ N | 123°23′17″ W
Clatskanie Heritage Days Fireworks | Clatskanie, OR | July 4, 2019 10 p.m. to 10:30 p.m | 46°6′17″ N | 123°12′02″ W
City of Coos Bay July 4th Celebration/Fireworks Over the Bay | Coos Bay, OR | July 4, 2019 10 p.m. to 10:30 p.m | 43°22′06″ N | 124°12′24″ W
Florence Independence Day Celebration | Florence, OR | July 4, 2019 10 p.m. to 10:30 p.m | 43°58′09″ N | 124°05′50″ W
Garibaldi Days Fireworks | Garibaldi, OR | July 27, 2019 10 p.m. to 10:30 p.m | 45°33′13″ N | 123°54′56″ W
July 4th Party at the Port of Gold Beach | Gold Beach, OR | July 4, 2019 10 p.m. to 10:30 p.m | 42°25′30″ N | 124°25′03″ W
Huntington 4th of July | Huntington, OR | July 4, 2019 10 p.m. to 10:30 p.m | 44°18′02″ N | 117°13′33″ W
Ilwaco July 4th Committee Fireworks/Independence Day at the Port | Ilwaco, WA | July 6, 2019 10 p.m. to 10:30 p.m | 46°18′17″ N | 124°02′00″ W
Lincoln City 4th of July | Lincoln City, OR | July 4, 2019 10 p.m. to 10:30 p.m | 44°55′28″ N | 124°01′31″ W
Waverly Country Club 4th of July Fireworks | Milwaukie, OR | July 4, 2019 10 p.m. to 10:30 p.m | 45°27′03″ N | 122°39′18″ W
Cedco Inc./The Mill Casino Independence Day | North Bend, OR | July 3, 2019 10 p.m. to 10:30 p.m | 43°23′42″ N | 124°12′55″ W
Port Orford 4th of July | Port Orford, OR | July 4, 2019 10 p.m. to 10:30 p.m | 42°44′31″ N | 124°29′30″ W
Oaks Park Association 4th of July | Portland, OR | July 4, 2019 10 p.m. to 10:30 p.m | 45°28′22″ N | 122°39′59″ W
Portland Rose Festival Fireworks | Portland, OR | May 24, 2019 9:45 p.m. to 10:30 p.m | 45°30′58″ N | 122°40′12″ W
Waterfront Blues Festival Fireworks | Portland, OR | July 4, 2019 10 p.m. to 10:30 p.m | 45°30′42″ N | 122°40′14″ W
City of Rainier/Rainier Days | Rainier, OR | July 13, 2019 10 p.m. to 10:30 p.m | 46°05′46″ N | 122°56′18″ W
City of St. Helens 4th of July Fireworks | St. Helens, OR | July 4, 2019 10 p.m. to 10:30 p.m | 45°51′54″ N | 122°47′26″ W
The Dalles Area Fourth of July | The Dalles, OR | July 4, 2019 10 p.m. to 10:30 p.m | 45°36′18″ N | 121°10′23″ W
Toledo Summer Festival | Toledo, OR | July 20, 2019 10 p.m. to 10:30 p.m | 44°37′08″ N | 123°56′24″ W
Waldport 4th of July | Waldport, OR | July 3, 2019 10 p.m. to 10:30 p.m | 44°25′31″ N | 124°04′44″ W
Washougal 4th of July | Washougal, WA | July 4, 2019 10 p.m. to 10:30 p.m | 45°34′32″ N | 122°22′53″ W
Westport 4th of July | Westport, WA | July 4, 2019 10 p.m. to 11 p.m | 46°54′17″ N | 124°05′59″ W
Winchester Bay 4th of July Fireworks | Winchester Bay, OR | July 4, 2019 10 p.m. to 10:30 p.m | 43°40′56″ N | 124°11′13″ W
Yachats 4th of July | Yachats, OR | July 4, 2019 10 p.m. to 10:30 p.m | 44°18′38″ N | 124°06′27″ W
All coordinates are listed in reference Datum NAD 1983.

The special requirements listed in 33 CFR 165.1315(b) apply to the activation and enforcement of these safety zones, along with special requirements for fireworks barges. Before any vessel operator may enter the designated zone, they must obtain permission from the Captain of the Port or their Designated Representative. The Coast Guard may be assisted by other Federal, State, or local law enforcement agencies in enforcing this regulation.

In addition to this notice of enforcement in the Federal Register, the Coast Guard will provide notification of this enforcement period via the Local Notice to Mariners and marine information broadcasts.

Dated: May 13, 2019.
J.C. Smith,
Captain, U.S. Coast Guard, Captain of the Port Columbia River.

[FR Doc. 2019-10331 Filed 5-16-19; 8:45 am]

BILLING CODE 9110-04-P